DEPARTMENT OF THE INTERIOR

Bureau of Land Management

[OR-958-1430-01; GP0-0206; OR-55688]

Notice of Redesignation of Public Domain (PD) land to Oregon & California Railroad (O&C) and Coos Bay Wagon Road (CBWR) Status in Lane, Douglas, Coos, and Curry Counties; OR

AGENCY: Bureau of Land Management, Interior.

ACTION: Notice.

SUMMARY: This action informs the public of the transfer of PD lands into trust for the Coquille Tribe and designated as the Coquille Forest.

FOR FURTHER INFORMATION CONTACT: Gregg Nelson, BLM Coos Bay District, 1300 Airport Land, North Bend, Oregon 97459, 541-751-4473.

SUPPLEMENTARY INFORMATION: Title V, Sec. 501(a) of the Oregon Resource Conservation Act of 1996, contained in Division B of the Omnibus Consolidated Appropriation Act of 1997, Public Law 104-208, mandated the Bureau of Land Management (BLM) to transfer into trust certain federal lands in perpetuity for the Coquille Tribe. The legislation directed that the transferred land be designated as the Coquille Forest. That land transfer was completed on September 30, 1998. The legislation also required redesignation of sufficient land to revested O&C and reconveyed CBWR grant land status to maintain the current (pre-transfer) flow of revenue to the O&C counties. Other than the proposed change in status, redesignated lands will continue to be managed in accordance with the current Coos Bay District Resource Management Plan completed in May, 1995.

The following PD lands in Lane, Douglas, and Curry Counties, Oregon have been examined and found suitable for redesignation and conversion to O&C status for management under the provisions of the O&C Act of August 28, 1937 (50 Stat. 874):

Willamette Meridian

T. 26 S., R. 08 W.,

Sec. 10, SE¼NE¼;

Sec. 22, S½ and S½N½;

Sec. 34, S½SW¼.

T. 27 S., R. 08 W.,

Sec. 2, NW¼SW¼ and S½NW¼.

T. 22 S., R. 09 W.,

Sec. 22, SW¼NE¼, SE¼NW¼, SW¼, NW¼SE¼ and S½SE¼;

Sec. 28, lots 14 through 19, inclusive, and NE¼SW¼;

Sec. 34, NE¼NE¼ and SE¼SW¼.

T. 20 S., R. 11 W.,

Sec. 1, lots 1 and 2 and SE¼NE¼ and S½;

Sec. 2, N½SW¼, SE¼SW¼ and SE¼;

Sec. 3, N½SE¼.

T. 30 S., R. 13 W.,

Sec. 32, NW¼SW¼.

T. 31 S., R. 13 W.,

Sec. 6, NE¼NW¼.

T. 30 S., R. 14 W.,

Sec. 23, lots 1 and 2.

T. 31 S., R. 14 W.,

Sec. 1, S½NE¼ and NE¼SW¼;

Sec. 9, lots 1 through 5, inclusive;

Sec. 15, lots 5 through 9, inclusive;

Sec. 17, N½N½ and S½NW¼;

Sec. 18, lots 5, 6, and 7, and S½NE¼ and NW¼NE¼;

Sec. 22, NE¼, NE¼SE¼ and SW¼NW¼;

Sec. 23, N½N½, NW¼SW¼ and SW¼NW¼;

Sec. 28, SW¼NW¼;

Sec. 32, SE¼SE¼ and N½NW¼.

T. 34 S., R. 14 W.,

Sec. 1, lots 1 through 4, inclusive, and SW¼NE¼, SW¼ and S½NW¼;

Sec. 2, lots 1 through 4, inclusive, and S½N½ and S½.

T. 32 S., R. 15 W.,

Sec. 4, lots 1 through 4, inclusive, and S½NE¼NE¼, N½SE¼NE¼ and SW¼SE¼NE¼;

Sec. 24, lot 1;

Sec. 25, NW¼SW¼ and SE¼NW¼;

Sec. 26, SE¼NE¼ and NE¼SE¼.

T. 33 S., R. 15 W.,

Sec. 12, SW¼SE¼.

The above mentioned lands total 5,451.16 acres, more or less.

The following PD lands in Coos County, Oregon has been examined and found suitable for redesignation and conversion to CBWR status for management under the provisions of the O&C Act of August 28, 1937 (50 Stat. 874):

Willamette Meridian

T. 29 S., R. 10 W.,

Sec. 8, N½NE¼ and E½NW¼;

Sec. 18, lot 7;

Sec. 24, lot 4;

Sec. 28, NE¼NE¼.

T. 27 S., R. 11 W.,

Sec. 26, lots 11 and 14.

T. 28 S., R. 11 W.,

Sec. 32, S½N½ and SE¼;

Sec. 34, E½E½, NW¼NE¼, W½SW¼ and SW¼NW¼.

T. 29 S., R. 11 W.,

Sec. 4, lots 5 through 8, inclusive;

Sec. 6, SE¼NW¼;

Sec. 8, lots 5 and 6;

Sec. 18, S½NE¼ and E½W½;

Sec. 22, NW¼SW¼ and SW¼NW¼.

T. 30 S., R. 11 W.,

Sec. 4, lot 3 and SE¼NE¼;

Sec. 6, lots 6 and 7, and E½SW¼;

Sec. 8, N½NW¼ and SE¼NW¼ (does not include E½SE¼ );

Sec. 14, SE¼NW¼ and SE¼SE¼;

Sec. 26, NE¼, NW¼SE¼, NE¼SW¼ and E½NW¼.

T. 31 S., R. 11 W.,

Sec. 10, SE¼NW¼.

T. 28 S., R. 12 W.,

Sec. 36, E½SE¼.

T. 29 S., R. 12 W.,

Sec. 24, SW¼SW¼.

T. 30 S., R. 13 W.,

Sec. 7, lots 7 and 8;

Sec. 21, N½NE¼NW¼;

Sec. 23, NE¼NW¼.

T. 30 S., R. 14 W.,

Sec. 12, NE¼NE¼.

T. 30 S., R. 15 W.,

Sec. 12, NW¼SW¼.

The above mentioned lands total 2,730.47 acres, more or less.

Detailed information regarding this action is available for review at the office of the Coos Bay District, Bureau of Land Management, 1300 Airport Lane, North Bend, Oregon 97459.

For a period of 45 days from the publication of this notice in the Federal Register, interested parties may submit comments regarding the proposed redesignation of the land to the Field Manager, Myrtlewood Resource Area, 1300 Airport Lane, North Bend, Oregon 97459.

Comments

Interested parties may submit comments involving the suitability of these PD lands for redesignation to O&C and CBWR status. Comments on the redesignation are restricted to whether the land is physically suited for the proposal, whether the use will maximize the future use or uses of the land, whether the use is consistent with local planning and zoning, or if the use is consistent with state and federal programs.

Comments received on the redesignation will be answered by the State Director with the right to further comment to the Secretary. In the absence of any adverse comments, the redesignation will become effective 60 days from the date of publication of this notice in the Federal Register.

Dated: May 8, 2000.
Robert D. DeViney, Jr.,
Chief, Branch of Realty and Records Services.

[FR Doc. 00-12331 Filed 5-16-00; 8:45 am]

BILLING CODE 1430-33-P